DEPARTMENT OF COMMERCE

Foreign-Trade Zones Board

[Docket 9-2012]

Foreign-Trade Zone 202—Los Angeles, CA; Application for Reorganization and Expansion Under Alternative Site Framework

An application has been submitted to the Foreign-Trade Zones (FTZ) Board (the Board) by the Board of Harbor Commissioners of the City of Los Angeles, grantee of FTZ 202, requesting authority to reorganize and expand the zone under the alternative site framework (ASF) adopted by the Board (74 FR 1170, 1/12/2009 (correction 74 FR 3987, 1/22/2009); 75 FR 71069-71070, 11/22/2010). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on February 9, 2012.

FTZ 202 was approved on July 14, 1994 (Board Order 693, 59 FR 37464, 07/22/1994), and expanded or reorganized on August 26, 1996 (Board Order 842, 61 FR 46763, 09/5/1996), on July 9, 1999 (Board Order 1043, 64 FR 38887, 07/20/1999), on April 30, 2004 (Board Order 1331, 69 FR 26065-26066, 05/11/2004), on April 24, 2009 (Board Order 1616, 74 FR 21623-21624, 05/8/2009), on December 20, 2010 (Board Order 1732, 76 FR 86-87, 01/03/2011), and, on August 12, 2011 (Board Order 1779, 76 FR 53115, 08/25/2011).

The zone project currently consists of 20 sites located in Los Angeles, San Bernardino and Riverside Counties as follows: Site 1 (2,775 acres total)—Port of Los Angeles Harbor Complex, San Pedro; Site 2 (1.5 acres)—1 World Way, Los Angeles International Airport (1 acre) and 5540 W. 104th Street, Los Angeles (0.5 acres); Site 4 (353.6 acres)—within the 438-acre Carson Dominguez Technology Center south of the Artesia Freeway, between the Harbor Freeway and I-710, Carson and Rancho Dominguez; Site 5 (6.13 acres)—3Plus Logistics, 20250 S. Alameda Street, Rancho Dominguez (sunset 4/30/2014); Site 7 (93 acres)—within the 140-acre Pacific Gateway Center, at the southwest corner of the San Diego Freeway and Harbor Freeway interchange, Los Angeles; Site 9 (29.88 acres)—19700 Van Ness Avenue (15.61 acres), 19600 Western Avenue (7.01 acres) and 1451 Knox Street (7.26 acres), Torrance; Site 10 (325.5 acres)—Watson Industrial Center South, located at the intersection of I-405 and I-110, and bordered by Wilmington Avenue, E. Sepulveda Boulevard, Avalon Boulevard and E. 223rd Street, Carson; Site 11 (153.79 acres)—Watson Corporate Center, located on the northwest corner of I-405 and S. Alameda Street, and bordered by Wilmington Avenue and E. Dominguez Street, Carson (sunset 12/31/2013); Site 12 (8 acres)—Schafer Brothers Distribution Center, Inc., 1981 E. 213th Street, Carson; Site 14 (88 acres)—Port Distribution Center, 300 and 400 Westmont Street, San Pedro; Site 15 (3.67 acres)—1020 McFarland Avenue, Wilmington; Site 16 (4.16 acres)—201 W. Carob Street, Compton (sunset 12/31/2013); Site 19 (18.5 acres)—Young's Market Company, 6711 Bickmore Avenue, Chino (expires 12/31/2015); Site 20 (141.79 acres)—Park Mira Loma West, 11280 and 11850 Riverside Drive, 4000 Hamner Drive and 11310 Cantu Galleano Drive, Mira Loma; Site 22 (84 acres)—Redlands Business Center, located at the intersection of San Bernardino Avenue and California Street, Redlands (sunset 12/31/2015); Site 24 (5 acres)—2200 and 2250 Technology Place, Long Beach; Site 25 (665.5 acres) (sunset 8/31/2016)—Los Angeles International Airport jet fuel storage and delivery system, 9900 LAXFUEL Road (24 acres), Kinder Morgan Carson Terminal, 2000 E. Sepulveda Boulevard, Carson (119.3 acres), Shell Carson Terminal, 20945 S. Wilmington Avenue, Carson (450 acres), Vopak Marine Terminal, 2200 E. Pacific Coast Hwy, Wilmington (24.6 acres); Site 26 (2.38 acres)—3Plus Logistics, 2730 El Presidio Street, Carson (sunset 04/30/2014); Site 27 (0.3 acres)—Howard Hartry, 220 N. Fries Avenue, Wilmington (sunset 12/31/2013); and, Site 28 (8 acres)—California Cartage Company, 20903 S. Maciel Avenue, Carson.

The grantee's proposed service area under the ASF would be all of Orange County and portions of Los Angeles and San Bernardino Counties, California, as described in the application. If approved, the grantee would be able to serve sites throughout the service area based on companies' needs for FTZ designation. The proposed service area is within and adjacent to the Los Angeles-Long Beach U. S. Customs and Border Protection port of entry.

The applicant is requesting authority to reorganize its existing zone project to include eight of the existing sites as “magnet” sites and eleven of the existing sites as “usage-driven sites”. The ASF allows for the possible exemption of one magnet site from the “sunset” time limits that generally apply to sites under the ASF, and the applicant proposes that Site 1 be so exempted. The applicant is also requesting approval of the following new “usage-driven” site: Proposed Site 29 (1.92 acres)—NNR Global Logistics USA, Inc., 21023 South Main Street, Unit D, Carson (Los Angeles County). In addition, the applicant is requesting to renumber existing Site 9 into three separate usage-driven sites (Sites 9, 30 and 31) as well as to remove existing Site 16, Site 24 and Site 26 from the zone project due to changed circumstances. Because the ASF only pertains to establishing or reorganizing a general-purpose zone, the application would have no impact on FTZ 202's authorized subzones.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is April 16, 2012. Rebuttal comments in response to material submitted during the foregoing period may be submitted during the subsequent 15-day period to April 30, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Christopher Kemp at Christopher.Kemp@trade.gov or (202) 482-0862.

Dated: February 9, 2012.
Andrew McGilvray,
Executive Secretary.

[FR Doc. 2012-3571 Filed 2-14-12; 8:45 am]

BILLING CODE 3510-DS-P